DEPARTMENT OF COMMERCE

International Trade Administration

[A-549-817]

Certain Hot-Rolled Carbon Steel Flat Products From Thailand: Notice of Partial Rescission of Antidumping Duty Administrative Review

AGENCY: Import Administration, International Trade Administration, Department of Commerce.

FOR FURTHER INFORMATION CONTACT: David Cordell or Robert James, Office of AD/CVD Operations, Import Administration, International Trade Administration, U.S. Department of Commerce, 14th Street and Constitution Avenue, NW., Washington, DC 20230; telephone: (202) 482-0408 or (202) 482-0649, respectively.

SUPPLEMENTARY INFORMATION: On November 29, 2001, the Department published the antidumping duty order on hot-rolled steel from Thailand. See Notice of Antidumping Duty Order: Certain Hot-Rolled Carbon Steel Flat Products From Thailand, 66 FR 59562 (November 29, 2001) (Order). On November 3, 2008, the Department published the opportunity to request an administrative review of, inter alia, hot-rolled steel from Thailand for the period November 1, 2007, through October 31, 2008. See Antidumping or Countervailing Duty Order, Finding, or Suspended Investigation; Opportunity to Request Administrative Review, 73 FR 65288 (November 3, 2008).

In accordance with 19 CFR 351.213(b)(1), on December 1, 2008, United States Steel Corporation (U.S. Steel or petitioner) and G Steel requested that we conduct an administrative review of G Steel's sales of subject merchandise. G J Steel also requested that we review sales of G J Steel, asserting in its request the Department should “treat both companies [i.e., G Steel and G J Steel] as affiliated, and as affiliated producers, as a single entity entitled to a single antidumping duty rate as a result of this administrative review.” On December 24, 2008, the Department published in the Federal Register a notice of initiation of this antidumping duty administrative review covering the period November 1, 2007, through October 31, 2008. See Initiation of Antidumping and Countervailing Duty Administrative Reviews and Request for Revocation in Part, 73 FR 79055 (December 24, 2008).

On January 13, 2009, the Department issued its antidumping questionnaire to G Steel and G J Steel under separate cover letters. On February 1, 2009, G Steel and G J Steel submitted a combined section A questionnaire response (Section A Response). On March 12, 2009, prior to the deadlines for the remainder of their additional questionnaire responses, G Steel and G J Steel withdrew their requests for a review, and asked the Department to rescind the review with respect to G Steel and G J Steel, noting that in the case of G J Steel no other party had requested a review. G Steel and G J Steel noted their request for withdrawal comes within 90 days of the publication of the notice of initiation. Finally, both companies requested the return of information disclosed under the Department's Administrative Protective Order, to which request the Department acceded in its April 9, 2009 letter to G Steel and G J Steel.

On April 7, 20, and 28, 2009, domestic interested parties Nucor Corporation (Nucor) and U.S. Steel submitted comments and additional information for the record in support of their position that the review should not be rescinded.

Rescission of Administrative Review

Pursuant to 19 CFR 351.213(d)(1), the Secretary will rescind an administrative review, in whole or in part, if the parties that requested a review withdraw the request within 90 days of the date of publication of the notice of initiation of the requested review. On March 12, 2009, G J Steel withdrew its request for an administrative review. G J Steel withdrew its request before the 90-day deadline, and no other party requested an administrative review of this antidumping duty order with respect to G J Steel for the 2007-2008 period. Therefore, in response to the withdrawal by G J Steel of its request for an administrative review, and pursuant to 19 CFR 351.213(d)(1), the Department rescinds the administrative review of the antidumping duty order on certain hot-rolled carbon steel flat products from Thailand with respect to G J Steel. As regards G Steel, the petitioner U.S. Steel requested a review of G Steel and therefore, as not all parties have withdrawn their requests for a review of G Steel, the review will continue with respect to G Steel.

Assessment

The Department will not issue liquidation instructions or cash deposit instructions with respect to G J Steel at this time because the Department may decide to “collapse” G Steel with G J Steel based upon G Steel's request for the Department to collapse the two companies under 19 CFR 351.401(f) of the Department's regulations and also based upon U.S. Steel's and Nucor's comments to the Department concerning whether G Steel and G J Steel should be treated as a single entity. The Department therefore intends to explore the issue of G Steel and G J Steel's affiliation and the proper treatment of these firms in the context of the administrative review that is still ongoing with respect to G Steel. We will include our findings in our preliminary results of review with respect to G Steel. Accordingly, the Department expects to issue liquidation instructions with respect to G J Steel following the final results of the administrative review of G Steel.

This notice is published in accordance with section 777(i)(1) of the Tariff Act of 1930, as amended, and 19 CFR 351.213(d)(4).

Dated: June 19, 2009.
John M. Andersen,
Acting Deputy Assistant Secretary for Antidumping and Countervailing Duty Operations.

[FR Doc. E9-15177 Filed 6-25-09; 8:45 am]

BILLING CODE 3510-DS-P